DEPARTMENT OF COMMERCE

National Oceanic and Atmospheric Administration

RIN 0648-XE641

Fisheries of the South Atlantic; Southeast Data, Assessment, and Review (SEDAR); Stock ID Work Group Meeting for Atlantic Blueline Tilefish (Caulolatilus microps)

AGENCY: National Marine Fisheries Service (NMFS), National Oceanic and Atmospheric Administration (NOAA), Commerce.

ACTION: Notice of SEDAR 50 Stock Identification (ID) Work Group Meeting for Atlantic blueline tilefish.

SUMMARY: The SEDAR 50 assessment(s) of the Atlantic stock(s) of blueline tilefish will consist of a series of workshops and Webinars: Stock ID Work Group Meeting; Data Workshop; Assessment Workshop and Webinars; and a Review Workshop. For agenda details, see SUPPLEMENTARY INFORMATION.

DATES: The meeting will begin at 1 p.m. on Tuesday, June 28, 2016, and end at 3 p.m. on Thursday, June 30, 2016. The established times may be adjusted as necessary to accommodate the timely completion of discussion relevant to the assessment process. Such adjustments may result in the meeting being extended from, or completed prior to the time established by this notice. Additional SEDAR 50 workshops and Webinar dates and times will publish in a subsequent issue in the Federal Register.

ADDRESSES: The meeting will be held at the Doubletree by Hilton Raleigh Brownstone, 1707 Hillsborough Street, Raleigh, NC 27605; phone 919-828-0811. The meeting will also be broadcast via Webinar so that members of the public can observe the meeting. Those interested in observing the meeting via Webinar should contact Julia Byrd at SEDAR to request an invitation providing Webinar access information. Please request Webinar invitations at least 24 hours in advance of the meeting.

SEDAR address: South Atlantic Fishery Management Council, 4055 Faber Place Drive, Suite 201, N. Charleston, SC 29405; Web site: www.sedarweb.org.

FOR FURTHER INFORMATION CONTACT: Julia Byrd, SEDAR Coordinator, 4055 Faber Place Drive, Suite 201, North Charleston, SC 29405; phone (843) 571-4366; email: julia.byrd@safmc.net.

SUPPLEMENTARY INFORMATION:

Agenda

The Gulf of Mexico, South Atlantic, and Caribbean Fishery Management Councils, in conjunction with NOAA Fisheries and the Atlantic and Gulf States Marine Fisheries Commissions, have implemented the Southeast Data, Assessment and Review (SEDAR) process, a multi-step method for determining the status of fish stocks in the Southeast Region. SEDAR is a three-step process including: (1) Data Workshop; (2) Assessment Process utilizing Webinars; and (3) Review Workshop. The product of the Data Workshop is a data report which compiles and evaluates potential datasets and recommends which datasets are appropriate for assessment analyses. The product of the Assessment Process is a stock assessment report which describes the fisheries, evaluates the status of the stock, estimates biological benchmarks, projects future population conditions, and recommends research and monitoring needs. The assessment is independently peer reviewed at the Review Workshop. The product of the Review Workshop is a Summary documenting panel opinions regarding the strengths and weaknesses of the stock assessment and input data. Participants for SEDAR Workshops are appointed by the Gulf of Mexico, South Atlantic, and Caribbean Fishery Management Councils and NOAA Fisheries Southeast Regional Office, Highly Migratory Species Management Division, and Southeast Fisheries Science Center. Participants include: data collectors and database managers; stock assessment scientists, biologists, and researchers; constituency representatives including fishermen, environmentalists, and non-governmental organizations (NGOs); international experts; and staff of Councils, Commissions, and state and federal agencies.

The items of discussion at the Stock ID Work Group meeting are as follows:

1. Participants will use review genetic studies, growth patterns, existing stock definitions, prior SEDAR stock ID recommendations, and any other relevant information on blueline tilefish stock structure.

2. Participants will make recommendations on biological stock structure and define the unit stock or stocks to be addressed through this assessment.

3. Participants will provide recommendations to address Council management jurisdictions, to support management of the stock or stocks, and specification of management benchmarks and fishing levels by Council jurisdiction in a manner consistent with the productivity measures of the stock.

4. Participants will document work group discussion and recommendations through a Data Workshop working paper for SEDAR 50.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SAFMC at least ten (10) business days prior to the meeting.

Note: The times and sequence specified in this agenda are subject to change.

Authority: 16 U.S.C. 1801 et seq.

Dated: May 19, 2016.
Tracey L. Thompson,
Acting Director, Office of Sustainable Fisheries, National Marine Fisheries Service.

[FR Doc. 2016-12205 Filed 5-23-16; 8:45 am]

BILLING CODE 3510-22-P